DEPARTMENT OF THE INTERIOR

Fish and Wildlife Service

[FWS-R8-ES-2010-N089; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before June 2, 2010.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-825573

Applicant: Brian L. Cypher, Bakersfield, California.

The applicant requests a permit to remove/reduce to possession Opuntia treleasei (Bakersfield cactus) from Federal lands in conjunction with botanical surveys, voucher, and genetic research throughout the range of each species in California for the purpose of enhancing its survival.

Permit No. TE-097516

Applicant: Thomas P. Ryan, Pasadena, California.

The applicant requests an amendment to an existing permit (March 20, 2007, 72 FR 13121) to take (collect and remove from the wild dead and abandoned eggs, color band; and capture, attach/remove geolocators, monitor, recapture) the California least tern (Sterna Antillarum browni) in conjunction with population monitoring and research throughout the range of the species in Los Angeles County, California, for the purpose of enhancing its survival.

Permit No. TE-007907

Applicant: United States Geological Survey, Klamath Falls, Oregon.

The applicant requests an amendment to an existing permit (March 25, 1999, 64 FR 14458) to take (capture, transport, and release) the Lost River sucker (Deltistes luxatus) and the shortnose sucker (Chasmistes brevirostrum) in conjunction with surveys, population monitoring and life history studies throughout the range of the species in Klamath and Lake Counties, Oregon, for the purpose of enhancing their survival.

Permit No. TE-054011

Applicant: John F. Green, Riverside, California.

The applicant requests an amendment to an existing permit (December 16, 2008, 73 FR 76375) to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys and population monitoring throughout the range of each species in California for the purpose of enhancing their survival.

Permit No. TE-07064A

Applicant: Wesley K. Savage, Allentown, Pennsylvania.

The applicant requests a permit to take (survey, capture, handle, measure, photograph, collect tissue, and release) the Santa Cruz long-toed salamander (Ambystoma macrodactylum croceum) and California tiger salamander (Ambystoma californiense); and take (survey, capture, handle, collect tissue, and release) the callippe silverspot butterfly (Speyeria callippe callippe) in conjunction with surveys, population monitoring, and genetic research throughout the range of each species in California for the purpose of enhancing their survival.

Permit No. TE-004939

Applicant: Gordon F. Pratt, Riverside, California.

The applicant requests an amendment to an existing permit (January 31, 2003, 68 FR 5037) to take (collect voucher specimens of newly discovered populations) the Quino checkerspot butterfly (Euphydryas editha quino), Palos Verdes blue butterfly (Glaucopsyche lygdamus palosverdesensis), lotis blue butterfly (Lycaeides argyrognomon lotis), El Segundo blue (Euphilotes battoides allyni), and the Laguna Mountains skipper (Pyrgus ruralis lagunae) in conjunction with surveys and population monitoring throughout the range of each species in California for the purpose of enhancing their survival.

Permit No. TE-07981A

Applicant: Bruce J. Turner, Eggleston, Virginia.

The applicant requests a permit to take (survey, capture, handle, release, collect, and sacrifice) the Ash meadows pupfish (Cyprinodon nevadensis mionectes) and Warm springs pupfish (Cyprinodon nevadensis pectoralis) in conjunction with scientific research in Nye County, Nevada, for the purpose of enhancing their survival.

Permit No. TE-166383

Applicant: Michael Westphal, Hollister, California.

The applicant requests an amendment to an existing permit (November 6, 2007, 72 FR 62669) to take (survey, capture, handle, tail clip, and release) the blunt-nosed leopard lizard (Gamelia silus) in conjunction with surveys and genetic research throughout the range of the species in San Benito and Fresno Counties, California, for the purpose of enhancing its survival.

Permit No. TE-097845

Applicant: ManTech SRS Technologies Incorporated, Lompoc, California.

The applicant requests an amendment to an existing permit (June 27, 2008, 73 FR 36552), to extend the currently authorized geographic area and take (harass by survey, capture, handle, release, collect, and sacrifice) the unarmored threespine stickleback (Gasterosteus aculeatus williamsoni) in conjunction with surveys and genetic research within Santa Barbara County, California, for the purpose of enhancing its survival.

Permit No. TE-213726

Applicant: Joelle J. Fournier, San Diego, California.

The applicant requests an amendment to an existing permit (July 7, 2009, 74 FR 32179) to take (handle, band, and remove from the wild dead eggs, chicks, adults, feathers and hatched membranes) the California least tern (Sterna Antillarum browni) in conjunction with population monitoring and research at Camp Pendleton Marine Base, San Diego County, California, for the purpose of enhancing its survival.

Permit No. TE-09371A

Applicant: Bureau of Land Management, Las Vegas, Nevada.

The applicant requests a permit to take (harass by survey) the southwestern willow flycatcher (Empidonax traillii extimus) in conjunction with surveys throughout the range of the species in Clark, Lincoln and Nye Counties, California, for the purpose of enhancing its survival.

Permit No. TE-09389A

Applicant: Michelle E. Giolli, Berkeley, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys and population monitoring throughout the range of each species in California for the purpose of enhancing their survival.

Permit No. TE-09381A

Applicant: Billy G. Williams, Santa Barbara, California.

The applicant requests a permit to take (capture, handle, and release) the giant kangaroo rat (Dipodomys ingens) in conjunction with surveys and population monitoring studies throughout the range of the species in California for the purpose of enhancing its survival.

Permit No. TE-09375A

Applicant: Laura Ann Eliassen, Bradley, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys and population monitoring throughout the range of each species in California for the purpose of enhancing their survival.

We invite public review and comment on each of these recovery permit applications. Comments and materials we receive will be available for public inspection, by appointment, during normal business hours at the address listed in the ADDRESSES section of this notice.

Michael Long,
Acting Regional Director, Region 8, Sacramento, California.

[FR Doc. 2010-10225 Filed 4-30-10; 8:45 am]

BILLING CODE 4310-55-P